SECURITIES AND EXCHANGE COMMISSION

[OMB Control No. 3235-0625; SEC File No. 270-563]

Submission for OMB Review; Comment Request; Rule 17g-1 and Form NRSRO 30 Day Notice 2020; Extension

Notice is hereby given that pursuant to the Paperwork Reduction Act of 1995 (44 U.S.C. 3501 et seq.), the Securities and Exchange Commission (“Commission”) has submitted to the Office of Management and Budget (“OMB”) a request for approval of extension of the previously approved collection of information provided for in Rule 17g-1, Form NRSRO and Instructions to Form NRSRO under the Securities Exchange Act of 1934 (15 U.S.C. 78a et seq.).¹

¹ See 17 CFR 240.17g-1 and 17 CFR 249b.300.

Rule 17g-1, Form NRSRO and the Instructions to Form NRSRO contain certain recordkeeping and disclosure requirements for NRSROs. Currently, there are 9 credit rating agencies registered as NRSROs with the Commission. Based on staff experience, the Commission estimates that the revised ongoing annual burden for respondents to comply with Rule 17g-1 and Form NRSRO remains at 275 hours, but with a decrease in industry total hours to 2,475 hours, reflecting the decrease in registered entities. In addition, the Commission estimates an industry-wide annual external cost to NRSROs of $3,600 to comply with the requirements.

An agency may not conduct or sponsor a collection of information unless it displays a currently valid OMB control number. No person shall be subject to any penalty for failing to comply with a collection of information subject to the PRA that does not display a valid OMB control number.

The public may view background documentation for this information collection at the following website: www.reginfo.gov. Find this particular information collection by selecting “Currently under 30-day Review—Open for Public Comments” or by using the search function. Written comments and recommendations for the proposed information collection should be sent within 30 days of publication of this notice to (i) www.reginfo.gov/public/do/PRAMain and (ii) David Bottom, Director/Chief Information Officer, Securities and Exchange Commission, c/o Cynthia Roscoe, 100 F Street NE, Washington, DC 20549, or by sending an email to: PRA_Mailbox@sec.gov. Upon Written Request, Copies Available From: Securities and Exchange Commission, Office of FOIA Services, 100 F Street NE, Washington, DC 20549-2736.

Dated: September 22, 2020.
J. Matthew DeLesDenier,
Assistant Secretary.

[FR Doc. 2020-21245 Filed 9-24-20; 8:45 am]

BILLING CODE 8011-01-P